NUCLEAR REGULATORY COMMISSION

Pilot Program on the Use of Alternative Dispute Resolution in the Enforcement Program; Request for Comments and Announcement of Public Meeting

AGENCY: Nuclear Regulatory Commission.

ACTION: Request for comments and announcement of public meeting.

SUMMARY: The Commission has recently approved an NRC staff proposal to develop a pilot program on the use of “Alternative Dispute Resolution” (ADR) in cases involving the NRC's enforcement activities concerning allegations or findings of discrimination and other wrongdoing. See SECY-03-0115. “ADR” is a term that refers to a number of processes that can be used in assisting parties in resolving disputes and potential conflicts. Most of these processes are voluntary, where the parties to the dispute are in control of the decision on whether to participate in the process and whether to agree to any resolution of the dispute. The parties are assisted in their efforts to reach agreement by a neutral third party. The NRC staff is now proceeding to develop the policies and procedures for implementation of the pilot program. As an initial step in the development of the pilot program, the NRC will be holding a public workshop on December 10, 2003, at One White Flint North, 11555 Rockville Pike, Room 014B6, Rockville, Maryland from 9 a.m.-3:30 p.m. to discuss multiple issues. These issues include: (1) How should cases be selected for the use of ADR?, (2) What ADR processes should be used?, (3) What is the appropriate NRC involvement in the early ADR process?, (4) Who Should Participate in the ADR Process?, (5) How Should Neutrals Be Selected?, (6) How Should Confidentiality Be Handled?, (7) What Information Concerning ADR Sessions Should Be Public?, (8) How Will NRC internal management procedures Be Impacted?, (9) How Will The Program Be Coordinated with NRC Enforcement Process? (10) What Training Will Be Done?, and (11) How Will The Program Be Evaluated? These issues are addressed in a document for comment on the NRC's Web site at http://www.nrc.gov: select What We Do, Enforcement, then Alternative Dispute Resolution. This document is also available in ADAMS at ML033290248.

DATES: The comment period expires December 31, 2003.

ADDRESSES: Submit written responses to the issues addressed in the “ADR Pilot Program Discussion Issues” document included on the ADR Web page to Chief, Rules and Directives Branch, Division of Administrative Services, Office of Administration, Mail Stop T-6D59, U.S. Nuclear Regulatory Commission, Washington, DC 20555-0001. Hand deliver comments to: 11555 Rockville Pike, Rockville, Maryland, between 7:30 a.m. and 4:15 p.m., Federal workdays. Comments may be submitted by e-mail to nrcrep@nrc.gov. Copies of comments received may be examined at the NRC's Public Document Room, located at One White Flint North (O1-F21), Rockville, Maryland, 20852-2738.

FOR FURTHER INFORMATION CONTACT: Nick Hilton, Enforcement Specialist, Office of Enforcement, U.S. Nuclear Regulatory Commission, Washington, DC 20555-0001, (301) 415-2741, e-mail ndh@nrc.gov.

Dated at Rockville, Maryland, this 25th day of November, 2003.
For the Nuclear Regulatory Commission.
Frank J. Congel,
Director, Office of Enforcement.

[FR Doc. 03-29902 Filed 12-1-03; 8:45 am]

BILLING CODE 7590-01-P